ENVIRONMENTAL PROTECTION AGENCY

[OAR-2003-0006, FRL-7521-9]

Agency Information Collection Activities; Submission of EPA ICR No. 0619.10 (OMB No. 2060-0078) to OMB for Review and Approval; Comment Request

AGENCY: Environmental Protection Agency.

ACTION: Notice.

SUMMARY: In compliance with the Paperwork Reduction Act (44 U.S.C. 3501 et seq.), this document announces that the following Information Collection Request (ICR) has been forwarded to the Office of Management and Budget (OMB) for review and approval: Mobile Source Emission Factor On-Highway Recruitment. This ICR describes the nature of the information collection and its estimated burden and cost.

DATES: Additional comments may be submitted on or before August 1, 2003.

ADDRESSES: Follow the detailed instructions in SUPPLEMENTARY INFORMATION.

FOR FURTHER INFORMATION CONTACT: Carl Scarbro, Assessment and Standards Division, Office of Transportation and Air Quality, AATC, Environmental Protection Agency, 1200 Pennsylvania Ave., NW., Washington, DC 20460; telephone number: 734-214-4209; fax number: 734-214-4939; e-mail address: scarbro.carl@epa.gov.

SUPPLEMENTARY INFORMATION: EPA has submitted the following ICR to OMB for review and approval according to the procedures prescribed in 5 CFR 1320.12. On Friday, January 24, 2003 68 FR 3524, EPA sought comments on this ICR pursuant to 5 CFR 1320.8(d). EPA received a single request for information concerning the ICR. EPA forwarded the requested information to the requestor.

EPA has established a public docket for this ICR under Docket ID No. OAR-2003-0006, which is available for public viewing at the Office of Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to a-and-r-docket@epamail.epa.gov, or by mail to: EPA Docket Center, Environmental Protection Agency, Environmental Protection Agency, Mailcode 6102T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Mobile Source Emission Factor On-Highway Recruitment (OMB Control No. 2060-0078; EPA ICR No. 0619.10). This is a request to renew an existing collection that is scheduled to expire in 06/30/2003. Under OMB regulations, the Agency may continue to conduct or sponsor the collection of information while this submission is pending at OMB.

Abstract: The EPA Emissions Factor Program, through contractors, solicits the general public to voluntarily offer their vehicle for emissions testing. There are two methods used to solicit the general public for participation in Emission Factor Program (EFP):

1. Postal cards are sent to a random selection of vehicle owners using State motor vehicle registration lists; and

2. A random selection of motor vehicle owners, who arrive at State inspection stations on an annual or biennial schedule, are solicited.

The legislative basis for the Emission Factors Program is section 103(a)(1)(2)(3) of the Clean Air Act, which requires the Administrator to “conduct * * * research, investigations, experiments, demonstrations, surveys, and studies relating to the causes, effects, extent, prevention, and control of air pollution” and “conduct investigations and research and make surveys concerning any specific problem of air pollution in cooperation with any air pollution control agency * * *”

EPA uses the data from the EFP to verify predictions of the computer model known as MOBILE, which calculates the contribution of mobile source emissions to ambient air pollution. MOBILE is used by EPA, state and local air pollution agencies, the automotive industry, and other parties that are interested in estimating mobile source emissions. These estimates, when generated by governments are the basis for State Implementation Plans (SIPs), and Reasonable Further Progress (RFP) reports for the attainment status assessments for the National Ambient Air Quality Standards (NAAQS).

Furthermore, the EFP data collected under this ICR will be used to construct a new model to replace MOBILE, the “Multi-scale Motor Vehicle & Equipment Emission System” (MOVES). MOVES will be based on field sample data as opposed to laboratory simulations. This change is due to recommendations made to EPA by the National Research Council, the Office of Management and Budget and is enabled by the availability of suitable technology for the collection of emission and activity data while the vehicles are being used by their owners/operators.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average about 3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners of on-highway vehicles.

Estimated Number of Respondents: 420.

Frequency of Response: On Occasion.

Estimated Total Annual Hour Burden: 883.

Estimated Total Respondent Annual Cost: $28,160.

Changes in the Estimates: There is a decrease of 766 hours in the total estimated burden currently identified in the OMB Inventory of Approved ICR Burdens. This decrease is due to budget constraints on program which will limit the scope of the collection request.

Dated: June 24, 2003.
Doreen Sterling,
Acting Director, Collection Strategies Division.

[FR Doc. 03-16733 Filed 7-1-03; 8:45 am]

BILLING CODE 6560-50-P